DEPARTMENT OF HOUSING AND URBAN DEVELOPMENT

[Docket No. FR-5030-C-1C]

Notice of HUD's Fiscal Year (FY) 2006 Notice of Funding Availability, Policy Requirements and General Section to SuperNOFA for HUD's Discretionary Grant Programs; Reopening for Additional Eligible Activity for Hispanic-Serving Institutions Assisting Communities (HSIAC) Program

AGENCY: Office of the Secretary, HUD.

ACTION: Super Notice of Funding Availability (SuperNOFA) for HUD Discretionary Grant Programs; Reopening for Additional Eligible Activity for Hispanic-Serving Institutions Assisting Communities (HSIAC) Program.

SUMMARY: On March 8, 2006, HUD published its Fiscal Year (FY) 2006 SuperNOFA (SuperNOFA), for HUD's Discretionary Grant Programs. This document modifies the HSIAC Program. The notice published today announces that “Construction, renovation, expansion of an institution's own facilities” is an eligible activity. As a result, HUD is reopening the competition for available funds. The application deadline date is now June 29, 2006. Applicants who have already submitted applications may submit new and complete applications to reflect this change. These changes do not affect the application package for the HSIAC Program NOFA on Grants.gov.

DATES: The application submission date for the HSIAC Program is June 29, 2006.

FOR FURTHER INFORMATION CONTACT: The HSIAC NOFA identifies the applicable agency contacts for each program. Questions regarding today's Notice should be directed to the agency contacts identified in the program NOFA.

SUPPLEMENTARY INFORMATION: On March 8, 2006 (71 FR 11712), HUD published its Notice of HUD's Fiscal Year (FY) 2006, SuperNOFA for HUD's Discretionary Grant Programs. The FY2006 SuperNOFA announced the availability of approximately $2.2 billion in HUD assistance. This notice published in today's Federal Register modifies the HSIAC Program NOFA. HUD had inadvertently included among the ineligible activities an activity that is eligible for funding under this NOFA. Construction, renovation, and expansion of an institution's facilities are eligible activities for funding. In order to provide applicants will adequate time to prepare and complete their application in light of this change, the application submission period has been reopened. The deadline date for applications is now June 29, 2006. Applicants who previously submitted applications may resubmit a new and complete applications in response to the change made today. The remainder of the HSIAC Program NOFA is unchanged. Applicants should refer to the HSIAC Program NOFA published as part of HUD's Fiscal Year (FY) 2006, SuperNOFA for HUD's Discretionary Grant Programs on March 8, 2006 and HUD's Fiscal Year 2006 Notice of Funding Availability Policy Requirements and General Section to the SuperNOFA for HUD's Discretionary Grant Programs on January 20, 2006 (71 FR 3382) for all application requirements and procedures.

Summary of Changes to the HSIAC NOFA

Summaries of the changes made by this document follow. The page number shown in brackets identifies where the individual funding availability announcement that is being modified can be found in the March 8, 2006, SuperNOFA. The notice in today's Federal Register will also be reflected in the application instructions located on Grants.gov/Apply. Applicants must read the instruction download located on Grants.gov/Apply prior to submitting their application in order to receive all parts of the application.

Hispanic-Serving Institutions Assisting Communities (HSIAC) Program [11756]

On page 11757, Overview Information, section F., first column, HUD is reopening the competition and establishing an application deadline date of June 29, 2006.

On page 11758, section III.C.a., second column, HUD is modifying the list of eligible activities by adding paragraph (12), which includes construction, renovation, and expansion of an institution's own facilities as eligible activities.

On page 11761, section IV.C., first column, HUD is reopening the competition and establishing an application deadline date of June 29, 2006.

On page 11761, section IV.E.e., first column, HUD is removing, “e. Construction renovation, expansion of an institution's own facilities” from the list of ineligible CDBG activities. HUD had inadvertently included these activities as ineligible when in fact they are eligible activities under this NOFA.

Accordingly, in the Notice of HUD's Fiscal Year (FY) 2006, Notice of Funding Availability (NOFA), Policy Requirements to the SuperNOFA for HUD's Discretionary Grant Programs, beginning at 71 FR 11712, in the issue of March 8, 2006, the following changes are made.

1. Hispanic-Serving Institutions Assisting Communities (HSIAC) Program, beginning on page 11756:

On page 11757, Overview Information, section F., delete “May 22, 2006” and replace with “June 29, 2006.”

On page 11758, section III.C.a., second column, add paragraph (12) to read as follows:

(12) Construction, renovation, expansion of an institution's own facilities; and

On page 11761, section IV.C., first column, delete “May 22, 2006” and replace with “June 29, 2006.”

On page 11761, section IV.E.e., first column, delete “Construction, renovation, expansion of an institution's own facilities.”

Dated: May 19, 2006.
Darlene F. Williams,
Assistant Secretary for Policy Development and Research.

[FR Doc. 06-4865 Filed 5-22-06; 2:42 pm]

BILLING CODE 4210-67-P